DEPARTMENT OF COMMERCE

National Oceanic and Atmospheric Administration

[I.D. 121806D]

North Pacific Fishery Management Council; Public Meeting

AGENCY: National Marine Fisheries Service (NMFS), National Oceanic and Atmospheric Administration (NOAA), Commerce.

ACTION: Notice of a team workshop.

SUMMARY: The North Pacific Fishery Management Council's (Council) Aleutian Islands Ecosystem Team will meet in Seattle, WA, Room to be posted on web.

DATES: The meeting will be held on January 10, 2007 though January 12, 2007, from 8:30 a.m. to 5 p.m, each day.

ADDRESSES: The meeting will be held at the Alaska Fishery Science Center, 760 Sand Point Way, NE, (Room to be posted in the web), Seattle, WA.

Council address: North Pacific Fishery Management Council, 605 W. 4th Ave., Suite 306, Anchorage, AK 99501-2252.

FOR FURTHER INFORMATION CONTACT: Diana Evans, North Pacific Fishery Management Council; telephone: (907) 271-2809.

SUPPLEMENTARY INFORMATION: The Aleutian Islands Ecosystem Team will be drafting the Council's Fishery Ecosystem Plan for the Aleutian Islands.

Special Accommodations

This meeting is physically accessible to people with disabilities. Requests for sign language interpretation or other auxiliary aids should be directed to Gail Bendixen, (907) 271-2809, at least 5 working days prior to the meeting date.

Dated: December 19, 2006.
Tracey L. Thompson,
Acting Director, Office of Sustainable Fisheries, National Marine Fisheries Service.

[FR Doc. E6-21918 Filed 12-21-06; 8:45 am]

BILLING CODE 3510-22-S